ENVIRONMENTAL PROTECTION AGENCY

[FRL-7639-6]

Science Advisory Board Staff Office; Notification of Upcoming Science Advisory Board Meetings

AGENCY: Environmental Protection Agency (EPA).

ACTION: Notice.

SUMMARY: The EPA Science Advisory Board (SAB) Staff Office announces two public teleconference call meetings and one public face-to-face meeting of the SAB's Drinking Water Committee (DWC). The DWC will review the Agency's Drinking Water Research Program Multi-Year Plan.

The SAB Staff Office also announces a public workshop of the SAB Committee on Valuing the Protection of Ecological Systems and Services. The workshop will focus on different approaches and methods for valuing the protection of ecological systems and services.

DATES: April 5, 2004. A public teleconference call meeting of the Drinking Water Committee (DWC) will be held from 1 p.m. to 3 p.m. (eastern time). The purpose of this call is to provide the DWC with an overview of the EPA Drinking Water Research Program Multi-Year Plan and its regulatory context (focus is on EPA Long-Term Goal #1—Research on Regulated Contaminants)

April 8, 2004. A public teleconference call meeting of the Drinking Water Committee (DWC) will be held from 1 p.m. to 3 p.m. (eastern time). The purpose of this call is to continue the overview of the EPA Drinking Water Research Program Multi-Year Plan and its regulatory context (focus is on Long-Term Goal #2—Research on Unregulated Contaminants and Innovative Approaches; and Long-Term Goal #3—Research on Distribution Systems and Source Water Protection).

April 13-14, 2004. A public workshop of the SAB Committee on Valuing the Protection of Ecological Systems and Services will be held from 9 a.m. to 5:30 p.m (eastern time) on April 13, 2004, and from 8:30 a.m. to 4 p.m. (eastern time) on April 14, 2004.

May 24-25, 2004. A public meeting of the Drinking Water Committee (DWC) to Review the EPA Drinking Water Research Program Multi-Year Plan. The meeting will begin at 8:30 a.m. and end no later than 5 p.m. (eastern time) each day.

ADDRESSES: Participation in the DWC teleconference meetings will be by teleconference only—a meeting room will not be used. The May 24-25, 2004 meeting of the DWC will be held in the Auditorium (Room C111C), U.S. EPA, Main Campus, 109 T.W. Alexander Drive, Research Triangle Park, NC 27709. The April 13-14, 2004 workshop of the Committee on Valuing the Protection of Ecological Systems and Services will be held at the Four Points Sheraton, 1201 K Street NW., Washington, DC 20005.

FOR FURTHER INFORMATION CONTACT: Members of the public who wish to obtain the call-in number and access code to participate in the DWC teleconference meetings may contact the EPA Science Advisory Board Staff at (202) 343-9999 by Friday, April 2, 2004, before the conference calls. Any member of the public wishing further information regarding the SAB or the DWC may contact Mr. A. Robert Flaak, Designated Federal Officer (DFO), U.S. EPA Science Advisory Board via phone (202-343-9988) or e-mail at flaak.robert@epa.gov, or Dr. Anthony Maciorowski, Associate Director for Science, U.S. EPA Science Advisory Board via phone (202-343-9983) or e-mail at maciorowski.anthony@epa.gov.

For information regarding the SAB Committee on Valuing the Protection of Ecological Systems and Services please contact Dr. Angela Nugent, DFO for the Committee. Dr. Nugent can be contacted via phone (202-343-9981) or e-mail: nugent.angela@epa.gov.

The SAB Mailing address is: U.S. EPA, Science Advisory Board (1400F), 1200 Pennsylvania Avenue, NW., Washington, DC 20460. General information about the SAB, as well as any updates concerning the meetings announced in this notice, may be found in the SAB Web site at http://www.epa.gov/sab.

SUPPLEMENTARY INFORMATION: Background on the Drinking Water Committee Review: The Safe Drinking Water Act Amendments of 1996 direct EPA to conduct research to strengthen the scientific foundation for standards that limit public exposure to drinking water contaminants. The amendments contain specific requirements for research on waterborne pathogens, such as Cryptosporidium and Norwalk virus; disinfection byproducts; arsenic; and other harmful substances in drinking water. EPA is also directed to conduct studies to identify and characterize population groups, such as children, that may be at greater risk from exposure to contaminants in drinking water than is the general population.

EPA's multi-year plan for drinking water research establishes three long-term goals. Within the scope of this MYP, EPA will: (a) By 2010, develop scientifically sound data and approaches to assess and manage risks to human health posed by exposure to specific regulated waterborne pathogens and chemicals, including those addressed by the Arsenic Microbial/Disinfectant By-Product (M/DBP) Rules and Six-Year Review Rules. (b) By 2010, develop new data, innovative tools and improved technologies to support decision-making by the Office of Water on the Contaminant Candidate List and other regulatory issues, and implementation of rules by States, local authorities and water utilities. (c) By 2009, provide data, tools and technologies to support management decisions by EPA's Office of Water, State, local authorities and utilities to protect source water and the quality of water in the distribution system.

The DWC received an initial briefing on the DW-MYP at a meeting on December 10, 2003 which was announced in 68 FR 66095, published on November 25, 2003. The meeting agendas and charge to the DWC for this review will be posted on the SAB Web site (http://www.epa.gov/sab) prior to the meetings.

Availability of Review Material for the DWC Meetings: There is only one document that is the subject of the SAB review: EPA's Office of Research and Development's (ORD) Drinking Water Research Program Multi-Year Plan. This document is available electronically at the following URL address: http://www.epa.gov/osp/myp.htm#dw. For information and any questions pertaining to the review document, please contact Dr. Fred Hauchman, EPA-ORD, via telephone: (919) 541-3893; fax: 919-685-3247; or e-mail: hauchman.fred@epa.gov

Background on the SAB Committee on Valuing the Protection of Ecological Systems and Services: Background on the Committee and its charge was provided in 68 FR 11082, published on March 7, 2003. The purpose of the April 13-14, 2004 Workshop is for the Committee to discuss the desired characteristics and desired outcomes of knowledge, methodologies, practice, and research for valuing the protection of ecological systems and services. The Committee will hear presentations from several of its members and from scientists within and outside of the Agency on examples that illustrate the use of different major science-based approaches. The Committee will also discuss suggestions for its next steps in addressing its overall charge to assess Agency needs and the state of the art and science of valuing protection of ecological systems and services, and then to identify key areas for improving knowledge, methodologies, practice, and research. An agenda for the workshop will be posted on the SAB Web site (http://www.epa.gov/sab) prior to the meeting.

Procedures for Providing Public Comment: It is the policy of the EPA Science Advisory Board (SAB) Staff Office to accept written public comments of any length, and to accommodate oral public comments whenever possible. The EPA SAB Staff Office expects that public statements presented at the DWC meetings will not be repetitive of previously submitted oral or written statements. Oral Comments: In general, each individual or group requesting an oral presentation at a face-to-face meeting will be limited to a total time of ten minutes (unless otherwise indicated). For conference call meetings, opportunities for oral comment will usually be limited to no more than three minutes per speaker and no more than fifteen minutes total. Interested parties should contact the Designated Federal Official (DFO) in writing via e-mail at least one week prior to the meeting in order to be placed on the public speaker list for the meeting. Speakers should bring at least 35 copies of their comments and presentation slides for distribution to the participants and public at the meeting. Written Comments: Although written comments are accepted until the date of the meeting (unless otherwise stated), written comments should be received in the SAB Staff Office at least one week prior to the meeting date so that the comments may be made available to the committee for their consideration. Comments should be supplied to the appropriate DFO at the address/contact information above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Meeting Accommodations: Individuals requiring special accommodation to access these meetings, should contact the relevant DFO at least five business days prior to the meeting so that appropriate arrangements can be made.

Dated: March 18, 2004.
Vanessa T. Vu,
Director, EPA Science Advisory Board Staff Office.

[FR Doc. 04-6568 Filed 3-23-04; 8:45 am]

BILLING CODE 6560-50-P